DEPARTMENT OF COMMERCE

Bureau of Industry and Security

Information Systems, Technical Advisory Committee; Notice of Partially Closed Meeting

The Information Systems Technical Advisory Committee (ISTAC) will meet on July 21 and 22, 2004, 9 a.m., in the Herbert C. Hoover Building, Room 3884, 14th Street between Pennsylvania Avenue and Constitution Avenue, NW., Washington, DC. The Committee advises the Office of the Assistant Secretary for Export Administration on technical questions that affect the level of export controls applicable to information systems equipment and technology.

July 21

Public Session

1. Opening remarks and introductions.

2. Comments or presentations by the public.

3. Summary of the Wassenaar Arrangement inter-sessional meeting on semiconductor manufacturing equipment.

4. Presentation on computational capability of graphics processors.

5. Update on Bureau of Industry and Security programs and activities.

July 21-22

Closed Session

6. Discussion of matters determined to be exempt from the provisions relating to public meetings found in 5 U.S.C. app. 2 §§ 10(a)(1) and 10(a)(3).

A limited number of seats will be available for the public session. Reservations are not accepted. To the extent time permits, members of the public may present oral statements to the Committee. The public may submit written statements at any time before or after the meeting. However, to facilitate distribution of public presentation materials to Committee members, the Committee suggests that public presentation materials or comments be forwarded before the meeting to Ms. Lee Ann Carpenter at Lcarpent@bis.doc.gov.

The Assistant Secretary for Administration, with the concurrence of the delegate of the General Counsel, formally determined on June 15, 2004, pursuant to section 10(d) of the Federal Advisory Committee Act, as amended (5 U.S.C. app. 2 § (10)(d))), that the portion of this meeting dealing with pre-decisional changes to the Commerce Control List and U.S. export control policies shall be exempt from the provisions relating to public meetings found in 5 U.S.C. app. 2 §§ 10(a)(1) and 10(a)(3). The remaining portions of the meeting will be open to the public.

For more information, contact Lee Ann Carpenter on (202) 482-2583.

Dated: June 29, 2004.
Lee Ann Carpenter,
Committee Liaison Officer.

[FR Doc. 04-15139 Filed 7-2-04; 8:45 am]

BILLING CODE 3510-JT-M